DEPARTMENT OF STATE

[Public Notice 6585]

Bureau of Educational and Cultural Affairs (ECA)

Request for Grant Proposals: Youth Ambassadors Program With South America and Mexico

Announcement Type: New Grants.

Funding Opportunity Number: ECA/PE/C/PY-09-51.

Catalog of Federal Domestic Assistance Number: 19.415.

Application Deadline: May 28, 2009.

Executive Summary: The Office of Citizen Exchanges, Youth Programs Division, of the Bureau of Educational and Cultural Affairs (ECA) announces an open competition for the Youth Ambassadors Program with Argentina, Bolivia, Brazil, Chile, Colombia, Ecuador, Guyana, Mexico, Paraguay, Peru, Suriname, Uruguay, Venezuela, and the United States. Public and private non-profit organizations meeting the provisions described in Internal Revenue Code section 26 U.S.C. 501(c)(3) may submit proposals to recruit and select youth and adult participants and to provide the participants with three-week exchanges focused on civic education, community service, and leadership along with follow-on projects in their home communities. For planning purposes, it is anticipated that exchange delegations will travel from all 13 countries to the United States, and U.S. exchange delegations will travel to six South American countries.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Overview: This Youth Ambassadors Program enables youth (ages 15-18) and adult educators to participate in intensive, thematic, three-week exchange projects that are designed to promote high-quality leadership, civic responsibility, and civic activism among future leaders of their communities. Projects involve a practical examination of the principles of democracy and civil society and provide participants with training that allows them to develop their leadership skills. Participants engage in a variety of activities such as workshops, community and school-based programs, seminars, and other activities that are designed to achieve the program's stated goals. Multiple opportunities for participants to interact with American youth and educators are included.

The goals of the program are:

1. To promote mutual understanding between the people of the United States and the people of South America and Mexico;

2. To prepare youth leaders to become responsible citizens and contributing members of their communities;

3. To significantly influence the attitudes of the leaders of a new generation; and

4. To foster relationships among youth from different ethnic, religious, and national groups and create networks of hemispheric youth leaders, both within the participating countries and internationally.

With the specific focus of this program, the following outcomes will indicate a successful project:

• Participants will demonstrate a better understanding of the elements of a participatory democracy as practiced in the United States.

• Participants will demonstrate critical thinking and leadership skills.

• Participants will demonstrate skill at developing project ideas and planning a course of action to bring the projects to fruition.

For each project, applicant organizations must focus on the primary themes of civic education (grassroots democracy and rule of law), leadership development, and community service. Secondary themes are the environment, drug and alcohol abuse prevention, business and entrepreneurship, or alternatives to violence. Secondary themes will be used as a tool to illustrate the more abstract concepts of the primary themes. For instance, the secondary theme of care for the environment can be used to examine youth leadership and community service through sessions with students who have founded a recycling club in their school or to examine grassroots democracy by meeting with citizens who have sought to have a county commission block development on environmentally sensitive land.

Using the goals and the themes above, applicant organizations should identify their own specific objectives and measurable outcomes based on these program goals and the project specifications provided in this solicitation.

Projects and Application Options

The total amount of funding available is $3,000,000. ECA anticipates awarding approximately three grants. The Bureau intends to have exchange activity with all of 13 countries. The Bureau reserves the right to reduce, revise, or increase proposal project configurations and budgets in accordance with the needs of the program and the availability of funds.

Organizations may submit only one proposal under this competition. If multiple proposals are received from the same applicant, all submissions will be declared technically ineligible and will be given no further consideration in the review process.

Applicant organizations may apply for one, two, or all three of the options outlined below. These options will allow applicants the flexibility to propose working with the countries in which they have the best infrastructure. The Bureau strongly urges organizations to limit their applications to the option(s) where they have the strongest institutional capacity in every country; this capacity must be thoroughly described in the proposal. Please note the funding range for each option.

Option One: Southern Cone regional project (Project A). $900,000-$1,000,000.

Option Two: Andean regional project (Project B) PLUS a single-country or joint project (one of Projects C through F below). $850,000-$1,000,000.

Option Three: Three or four single-country projects or joint project (Projects C through G below). $750,000-$1,000,000.

If an organization chooses Option Two or Option Three, please note that our intention is to have these projects conducted separately and distinctly from one another. If, however, an applicant proposes to conduct two or more projects at the same time, or connect them in some way, it should provide justification for doing so.

The list below identifies the project name, the language in which the exchange will be conducted, the requested secondary themes (of which applicants choose one), and whether an exchange to the partner country by U.S. students and teachers is requested.

Project A: Southern Cone (Argentina, Chile, Paraguay, Uruguay). Regional project. English. Secondary theme: Environment, Drug and alcohol abuse prevention, Business and entrepreneurship, or Alternatives to violence. U.S.-to-Chile and U.S.-to-Paraguay exchanges.

Project B: Andean (Bolivia, Ecuador, and Peru). Regional project. Spanish. Secondary theme: Environment, Business and entrepreneurship, or Drug and alcohol abuse prevention. U.S.-to-Ecuador exchange.

Project C: Colombia. Single-country project. English. Secondary theme: Drug and alcohol abuse prevention.

Project D: Venezuela. Single-country project. English. Secondary theme: Environment, Drug and alcohol abuse prevention, or Business and entrepreneurship.

Project E: Suriname and Guyana. Joint project. English. Secondary theme: Environment, Business and entrepreneurship, or Drug and alcohol abuse prevention. U.S.-to-Suriname/Guyana exchange.

Project F: Mexico. Single-country project. Spanish. Secondary theme: Alternatives to violence.

Project G: Brazil. Single-country project. English. Secondary theme: Business and entrepreneurship. U.S.-to-Brazil exchange [Note: Please see details on the Brazil project below.]

The grant period will span two or more years. Each project will have at least two delegations of exchange participants to the United States over those two years. In the case of two regional projects, there will be four exchange delegations. For some specified countries, the grant will also support two U.S. exchange delegations to the partner country in South America.

Exchanges to the United States: For a single-country project and the Suriname/Guyana project, an exchange delegation may range from 12-15 participants. For Brazil only, the delegation will be 37 participants. For a regional project (Southern Cone and Andean), an exchange delegation may range from 20-30 participants.

Exchanges to South America: Approximately 15% of the total amount of funding is to be dedicated to the exchange of U.S. students and teachers to the following countries: Brazil, Chile, Ecuador, Suriname and Guyana, and Paraguay. U.S. delegations may range from 10 to 14 participants, though larger delegations may be possible if funding allows, including supplemental funding from private sources. Participants traveling to Chile, Ecuador, and Paraguay should be able to communicate in Spanish. Those traveling to Brazil and Suriname/Guyana do not have any language requirements.

The successful applicant organization will present a program plan that allows the participants to thoroughly explore civic education, leadership and community service in creative, memorable, and practical ways. Activities should be designed to be replicable and provide practical knowledge and skills that the participants can apply to school and civic activities at home. These projects will offer bright and ambitious youth and teachers who work with youth the opportunity to develop their personal skills in a positive and productive way.

Proposals must clearly indicate the project names specifying the country or countries with which the applicant plans to work and budgets should be appropriately scaled to the projects. Since cost effectiveness is one of the proposal review criteria, the number of participants that can be accommodated in each project will be a factor in the proposal review process, though this will be balanced with program quality and a realistic budget.

Special Instructions for “Project G: Brazil”: The project with Brazil is structured differently than the other projects. The U.S. Embassy in Brasilia will serve as the in-country partner and will manage the recruitment and selection of the Brazilian participants, their follow-on activities, and the Brazil-based exchange activities for the U.S. participants. The total number of participants each year will be 37 (35 high school students plus 2 educators). For the Brazilians, the grant recipient for this project will be organizing and funding the U.S. domestic program only; the Embassy will cover in-country expenses and will arrange and purchase the international airline tickets. These exchanges to the U.S. will take place in January 2010 and January 2011. For the U.S. exchange participants, who do not have to speak Portuguese, the grant recipient will cover all costs, except the administrative costs necessary to organize the activities in Brazil.

Organizational Capacity

Applicant organizations must demonstrate their capacity for doing projects of this nature, focusing on three areas of competency: (1) Provision of programs that address the goals and themes outlined in this document; (2) age-appropriate programming for youth; and (3) previous experience working on programs with Mexico or South America.

With the exception of Brazil, applicant organizations must have an established presence and the administrative capacity in each of the partner countries necessary to implement the in-country activities. This may be a branch office of the U.S. applicant organization, a non-governmental partner organization, or other associates with demonstrated experience in educational exchange that can coordinate the program nationally. Grant recipients will be responsible for their partners' activities under the grant, both programmatically and financially. The partners must have the requisite capacity to recruit and select participants for the program, to provide follow-on activities, and to organize a program for the U.S. participants, if specified.

Organizations must convincingly demonstrate their capacity to manage a complex, multi-phase program with several separate projects. Their proposals must also thoroughly demonstrate their institutional capacity (infrastructure and experiences); if necessary, applicants may insert supplemental information that demonstrates their capacity and experience under TAB E of their proposal submission to elaborate. ECA is interested in proposals that demonstrate in the narrative and supporting documentation the organization's capacity and ability to sustain and expand the Youth Ambassador Program in future years.

Guidelines

The grants will begin on or about September 15, 2009. The grant period will be 24 to 34 months in duration, as appropriate for the applicant's program design. Each U.S. applicant organization must work with its partner organizations in the participating countries to propose appropriate dates for the exchanges, which may take place throughout 2010 and 2011 and into 2012. The exact timing of the project may be adjusted through the mutual agreement of the Department of State and the grant recipient.

The grant recipients will be responsible for the following, and therefore applicant organizations should describe these components in detail in their proposals:

• Recruitment and selection of youth and adult educators from diverse geographic regions in the partner countries, with the exception of Brazil. The Public Affairs Section of the U.S. Embassy in the partner country will have a key role in developing a recruitment strategy and deciding how finalists are chosen. Activities for some projects may also include the recruitment and selection of U.S. youth and educators for exchanges to South America.

• Providing orientations for exchange participants and for those participating in the host communities.

• Designing and planning of activities that provide a substantive project on the theme of civic education, leadership development, and community service, plus a secondary theme. Some activities should be school and community-based and the projects will involve as much sustained interaction with the exchange participants' peers as possible.

• Arranging homestays with properly screened and selected host families.

• Logistical arrangements, including visa applications, interpretation services, international and domestic travel, accommodations, and disbursement of stipends.

• Follow-on activities for exchange alumni that reinforce the ideas, values and skills imparted during the exchange through community projects.

Recruitment and Selection: In all of the partner countries except Brazil, the grant recipients must manage the recruitment and merit-based selection of participants in cooperation with the Public Affairs Sections of the U.S. Embassies in the participating countries. Once a grant is awarded, the grant recipient must consult with the Public Affairs Section at the U.S. Embassy to review a recruitment and participant selection plan and to determine the degree of Embassy involvement in the process. For those implementing projects with a U.S. to South American exchange component, the grant recipients must manage the recruitment and open, merit-based selection of U.S. participants as well.

Organizers must strive for regional, socio-economic, and ethnic diversity, as well as gender balance. Collaboration with Bi-National Centers (BNCs) is suggested, if possible. The Department of State and/or its overseas representatives are responsible for final approval of all selected delegations.

Participants: The youth participants must be high school students aged 15 to 18 years old who have demonstrated leadership aptitude and a commitment to their communities. Participants will be sought primarily through public high schools in order to reach beyond the elite. Geographic and ethnic diversity is important, including outreach to indigenous, Afro-descendents, and rural populations. The exchange participants will also include adults who are teachers, school administrators, and/or community leaders who work with youth; they will have the dual role of both exchange participant and chaperone. The ratio of youth to adults should be between 5:1 and 10:1.

For those projects that will be conducted in English, the South American and Mexican participants must have sufficient language proficiency to participate fully in interactions with their host families and their peers and in educational activities. A similar level of Spanish language ability is required for the American participants traveling to Chile, Ecuador, and Paraguay. For the U.S. projects that will be conducted in Spanish, the grant recipient will provide interpretation and will place the participants with host families with someone who speaks Spanish.

Exchange Program: High schools students and educators will spend three weeks on an intensive program that is designed to develop the participants' knowledge and skill base in civic education and community service as well as in youth leadership development. The exchange will take place in the capital city and in one or two other communities.

The exchanges will focus primarily on interactive activities, practical experiences, and other hands-on opportunities related to the program themes. All programming should include substantive interaction with teenagers of the host country whenever possible. The program will also provide opportunities for the adult educators to work with their peers. Cultural, social, and recreational activities will balance the schedule. In the United States, participants will live with host families in homestays for at least half of the exchange period. In South America, homestays are desired, but not required.

Follow-on Activities and In-Country Programming: Exchange participants should go home from the exchange prepared to conduct projects that serve a need in their schools or communities. The design, planning, and implementation of these projects will allow participants to apply what they have learned and enable to them to instigate community action on a modest scale. Applicant organizations should plan follow-on activities that focus on reinvigorating and inspiring the alumni group and assist them in furthering their action plans. In South America, these activities may be implemented by U.S. staff or trainers who travel there several months after the exchange and/or by staff or educators in the partner country (in Brazil, the U.S. Embassy will play this role). The activities will involve some practical skills training in addition to reinforcing the topics of the exchange. ECA strongly recommends additional in-country programming on the project themes for not only the program participants who travel but also their peers at home. Alumni will also be encouraged to make presentations to share their experience with their peers.

Grant recipients will retain the name “Youth Ambassadors Program” to identify their program. Materials produced for grant activities need to acknowledge the Department of State as the sponsor and reflect the Department of State's goals for the program.

Proposals must demonstrate how the stated objectives will be met. The proposal narrative should provide detailed information on the major program activities, and applicants should explain and justify their programmatic choices. Programs must comply with J-1 visa regulations for the International Visitor category. Please be sure to refer to the complete Solicitation Package—this RFGP, the Project Objectives, Goals, and Implementation (POGI), and the Proposal Submission Instructions (PSI)—for further information.

II. Award Information

Type of Award: Grant Agreement.

Fiscal Year Funds: 2009.

Approximate Total Funding: $3,000,000.

Approximate Number of Awards: Three.

Floor of Award Range: $750,000.

Ceiling of Award Range: $3,000,000.

Anticipated Award Date: September 15, 2009.

Anticipated Project Completion Date: 24-34 months after start date, to be specified by applicant based on project plan.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs. Cost-sharing from private sources may be used to augment the ECA funding, including increasing the number of exchange participants.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

III.3.a. Bureau grant guidelines require that applicant organizations with less than four years experience in conducting international exchanges be limited to $60,000 in Bureau funding. ECA anticipates making an award in an amount exceeding $60,000 to support program and administrative costs required to implement this exchange program. Therefore, organizations with less than four years experience in conducting international exchanges at the time of application are not eligible to apply under this competition.

III.3.b. Proposed sub-award recipients are also limited to grant funding of $60,000 or less if they do not have four years of experience in conducting international exchanges.

III.3.c. The Bureau encourages applicants to provide maximum levels of cost sharing and funding in support of its programs.

III.3.d. Organizations may submit only one proposal (total) under this competition. If multiple proposals are received from the same applicant, all submissions will be declared technically ineligible and will be given no further consideration in the review process.

IV. Application and Submission Information

Note: Please read the complete announcement before sending inquiries or submitting proposals. Once the RFGP deadline has passed, Bureau staff may not discuss this competition with applicants until the proposal review process has been completed.

IV.1. Contact Information To Request an Application Package

Please contact the Youth Programs Division, Office of Citizen Exchanges, ECA/PE/C/PY, Room 568, U.S. Department of State, SA-44, 301 4th Street, SW., Washington, DC 20547. Telephone (202) 453-8171, Fax (202) 453-8169; E-mail: PiersonCompeauHM@state.gov to request a Solicitation Package. Please refer to the Funding Opportunity Number ECA/PE/C/PY-09-51 when making your request.

Alternatively, an electronic application package may be obtained from grants.gov. Please see section IV.3f for further information.

The Solicitation Package contains the Proposal Submission Instruction (PSI) document, which consists of required application forms, and standard guidelines for proposal preparation. It also contains the Project Objectives, Goals and Implementation (POGI) document, which provides specific information, award criteria, and budget instructions tailored to this competition.

Please specify Program Officer Carolyn Lantz and refer to the Funding Opportunity Number ECA/PE/C/PY-09-51 on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

1. Those who file Internal Revenue Service Form 990, “Return of Organization Exempt From Income Tax,” must include a copy of relevant portions of this form.

2. Those who do not file IRS Form 990 must submit information above in the format of their choice.

In addition to final program reporting requirements, the award recipient will also be required to submit a one-page document, derived from program reports, listing and describing grant activities. For the award recipient, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The Recipient organization will be required to provide reports analyzing evaluation findings to the Bureau in regular program reports. All data collected, including survey responses and contact information, must be maintained for a minimum of three years and provided to the Bureau upon request.

IV.3e. Please take the following information into consideration when preparing your budget:

Applicants must submit a comprehensive budget for the entire program. There must be a summary budget as well as breakdowns reflecting both administrative and program budgets. Applicants may provide separate sub-budgets for each program component, phase, location, or activity to provide clarification.

Please refer to the POGI and PSI for complete budget guidelines and formatting instructions.

IV.3f. Application Deadline and Methods of Submission

Application Deadline Date: Thursday, May 28, 2009.

Reference Number: ECA/PE/C/PY-09-51.

Methods of Submission: Applications may be submitted in one of two ways:

(1) In hard-copy, via a nationally recognized overnight delivery service (i.e., Federal Express, UPS, Airborne Express, or U.S. Postal Service Express Overnight Mail, etc.), or

(2) Electronically through http://www.grants.gov.

Please Note: ECA strongly encourages organizations interested in applying for this competition to submit printed, hard copy applications as outlined in section IV.3f.1., below rather than submitting electronically through Grants.gov. This recommendation is being made as a result of the anticipated high volume of grant proposals that will be submitted via the Grants.gov webportal as part of the Recovery Act stimulus package. As stated in these RFGPs, ECA bears no responsibility for data errors resulting from transmission or conversion processes for proposals submitted via Grants.gov

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original, one fully-tabbed copy, and six (6) copies with Tabs A-E and appendices (no Tab F) should be sent to: U.S. Department of State, SA-44, Bureau of Educational and Cultural Affairs, Ref.: ECA/PE/C/PY-09-51, Program Management, ECA/EX/PM, Room 534, 301 4th Street, SW., Washington, DC 20547.

With the submission of the proposal package, please also e-mail the Executive Summary, Proposal Narrative, and Budget sections of the proposal, as well as any attachments essential to understanding the program, in Microsoft Word and/or Excel to the program officer at LantzCS@state.gov. The Bureau will provide these files electronically to the Public Affairs Section at the U.S. Embassies for their review.

IV.3f.2. Submitting Electronic Applications

Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov webportal as part of the Recovery Act stimulus package. As stated in these RFGPs, ECA bears no responsibility for data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below.

1. Quality of the program idea: Objectives should be reasonable, feasible, and flexible. The proposal should clearly demonstrate how the institution will meet the program's objectives and plan. The proposed program should be creative, age-appropriate, respond to the design outlined in the solicitation, and demonstrate originality. It should be clearly and accurately written, substantive, and with sufficient detail. Proposals should also include a plan to support participants' community activities upon their return home.

2. Program planning: A detailed agenda and work plan should clearly demonstrate how project objectives would be achieved. The agenda and plan should adhere to the program overview and guidelines described above. The substance of workshops, seminars, presentations, school-based activities, and/or site visits should be described in detail.

3. Support of diversity: The proposal should demonstrate the recipient's commitment to promoting the awareness and understanding of diversity in participant recruitment and selection and in program content. Applicants should demonstrate readiness to accommodate participants with physical disabilities.

4. Institutional capacity and track record: Proposed personnel and institutional resources in both the United States and in the partner countries should be adequate and appropriate to achieve the program goals. The proposal should demonstrate an institutional record, including responsible fiscal management and full compliance with all reporting requirements for any past Bureau grants as determined by the Bureau's Office of Contracts. The Bureau will consider the past performance.

5. Program evaluation: The proposal should include a plan to evaluate the program's success in meeting its goals, both as the activities unfold and after they have been completed. The proposal should include a draft survey questionnaire or other technique, plus a description of a methodology to link outcomes to original project objectives. The grant recipient will be expected to submit intermediate reports after each project component is concluded.

6. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov.

VI.3. Reporting Requirements

You must provide ECA with a hard copy original plus one copy of the following reports:

1. Interim reports, as required in the Bureau grant agreement.

2. A final program and financial report no more than 90 days after the expiration of the award;

3. A concise, one-page final program report summarizing program outcomes no more than 90 days after the expiration of the award. This one-page report will be transmitted to OMB, and be made available to the public via OMB's USAspending.gov Web site—as part of ECA's Federal Funding Accountability and Transparency Act (FFATA) reporting requirements.

4. A SF-PPR, “Performance Progress Report” Cover Sheet with all program reports.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Carolyn Lantz, Program Officer, Youth Programs Division, ECA/PE/C/PY, Room 568, U.S. Department of State, SA-44, 301 4th Street, SW., Washington, DC 20547. Telephone (202) 203-7505. Fax (202) 203-7529. E-mail: LantzCS@state.gov.

All correspondence with the Bureau concerning this RFGP should reference the above title and the reference number ECA/PE/C/PY-09-51.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 9, 2009.
C. Miller Crouch,
Acting Secretary for Educational and Cultural Affairs, Department of State.

[FR Doc. E9-8745 Filed 4-15-09; 8:45 am]

BILLING CODE 4710-05-P